DEPARTMENT OF THE INTERIOR

National Park Service

[NPS-WASO-NAGPRA-14596; PPWOCRADN0-PCU00RP14.R50000]

Notice of Inventory Completion: Tennessee Valley Authority, Knoxville, TN

AGENCY: National Park Service, Interior.

ACTION: Notice.

SUMMARY: The Tennessee Valley Authority (TVA) has completed an inventory of human remains and associated funerary objects, in consultation with the appropriate Federally recognized Indian tribes, and has determined that there is a cultural affiliation between the human remains and associated funerary objects and a present-day Federally recognized Indian tribe. Lineal descendants or representatives of any Federally recognized Indian tribe not identified in this notice that wish to request transfer of control of these human remains and associated funerary objects should submit a written request to TVA. If no additional requestors come forward, transfer of control of the human remains and associated funerary objects to the Federally recognized Indian tribe stated in this notice may proceed.

DATES: Lineal descendants or representatives of any Federally recognized Indian tribe not identified in this notice that wish to request transfer of control of these human remains and associated funerary objects should submit a written request with information in support of the request to TVA at the address in this notice by February 18, 2014.

ADDRESSES: Dr. Thomas O. Maher, TVA, 400 West Summit Hill Drive, WT11D, Knoxville, TN 37902-1401, telephone (865) 632-7458, email tomaher@tva.gov.

SUPPLEMENTARY INFORMATION: Notice is here given in accordance with the Native American Graves Protection and Repatriation Act (NAGPRA), 25 U.S.C. 3003, of the completion of an inventory of human remains and associated funerary objects under the control of TVA. The human remains and associated funerary objects were removed from the Rudder site in Jackson County, AL.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by TVA professional staff in consultation with representatives of the University of Alabama and the Absentee-Shawnee Tribe of Oklahoma; Alabama-Coushatta Tribe of Texas (previously listed as the Alabama-Coushatta Tribes of Texas); Alabama-Quassarte Tribal Town; Cherokee Nation; Eastern Band of Cherokee Indians; Eastern Shawnee Tribe of Oklahoma; Kialegee Tribal Town; Poarch Band of Creeks (previously listed as the Poarch Band of Creek Indians of Alabama); Seminole Tribe of Florida (previously listed as the Seminole Tribe of Florida (Dania, Big Cypress, Brighton, Hollywood & Tampa Reservations)); Shawnee Tribe; The Chickasaw Nation; The Muscogee (Creek) Nation; The Seminole Nation of Oklahoma; Thlopthlocco Tribal Town; and the United Keetoowah Band of Cherokee Indians in Oklahoma.

History and Description of the Remains

From March 13 to November 14, 1939, human remains representing, at minimum, 67 individuals were removed from the Rudder site (1JA180), in Jackson County, AL. The Rudder site was excavated as part of TVA's Guntersville reservoir project by the Alabama Museum of Natural History (AMNH) at the University of Alabama, using labor and funds provided by the Works Progress Administration. Excavation of the land commenced after TVA had acquired this land for the Guntersville project. The excavation site was composed of a truncated trapezoidal mound with multiple construction periods and a smaller mound containing most of the burial units. This site was occupied during the Henry Island phase of the Mississippian culture (ca. A.D. 1200-1400). Details regarding this site may be found in An Archaeological Survey of Guntersville Basin on the Tennessee River in Northern Alabama by William S. Webb and Charles G. Wilder. The human remains and associated funerary objects excavated from the Rudder site have always been in the physical custody of the AMNH at the University of Alabama. The human remains include adults, juveniles, and infants of both sexes. No known individuals were identified. The 6,122 associated funerary objects are 3 ceramic bowls, 1 duck effigy bowl, 1 ceramic cup, 10 ceramic jars, 3 ceramic water bottles, 1 ceramic ear spool, 1,258 pottery sherds, 20 stone celts, 3 projectile points, 310 chert flakes, 1 ground sandstone object, 1 limestone discoidal, 1 stone pipe, 74 pebbles, 1 piece of galena, 4 pieces of graphite, 2 pieces of an unknown green mineral, 2 pieces of talc, 4 pieces of hematite, 23 pieces of mica, 1 limonite, 4,361 shell beads, 8 carved shell gorgets, 13 pieces of mussel shell, 4 pieces of animal bone awl, 1 copper disk, 2 wooden ear spools (one with copper layer), and 9 wood fragments.

Although there is no scientific certainty that Native Americans of the Henry Island phase are directly related to modern Federally recognized tribes, Spanish and French explorers of the 16th and 17th centuries do indicate the presence chiefdom level tribal entities in the southeastern United States. The Coosa paramount chiefdom noted in historical chronicles is the most likely entity related to Henry Island phase sites in this part of the Guntersville Reservoir. Tribal groups or towns now part of The Muscogee (Creek) Nation claim descent from the Coosa chiefdom. The preponderance of the evidence indicates that in this part of the Guntersville Reservoir area, Henry Island phase sites are most likely culturally associated with groups now part of the Muscogee (Creek) Nation.

Determinations Made by the Tennessee Valley Authority

Officials of TVA have determined that:

• Pursuant to 25 U.S.C. 3001(9), the human remains described in this notice represent the physical remains of 67 individuals of Native American ancestry.

• Pursuant to 25 U.S.C. 3001(3)(A), the 6,122 objects described in this notice are reasonably believed to have been placed with or near individual human remains at the time of death or later as part of the death rite or ceremony.

• Pursuant to 25 U.S.C. 3001(2), there is a relationship of shared group identity that can be reasonably traced between the Native American human remains and associated funerary objects and The Muscogee (Creek) Nation.

Additional Requestors and Disposition

Lineal descendants or representatives of any Federally recognized Indian tribe not identified in this notice that wish to request transfer of control of these human remains and associated funerary objects should submit a written request with information in support of the request to Dr. Thomas O. Maher, TVA, 400 West Summit Hill Drive, WT11D, Knoxville, TN 37902-1401, telephone (865) 632-7458, email tomaher@tva.gov, by February 18, 2014. After that date, if no additional requestors have come forward, transfer of control of the human remains and associated funerary objects to The Muscogee (Creek) Nation may proceed.

TVA is responsible for notifying the University of Alabama and the Absentee-Shawnee Tribe of Oklahoma; Alabama-Coushatta Tribe of Texas (previously listed as the Alabama-Coushatta Tribes of Texas); Alabama-Quassarte Tribal Town; Cherokee Nation; Eastern Band of Cherokee Indians; Eastern Shawnee Tribe of Oklahoma; Kialegee Tribal Town; Poarch Band of Creeks (previously listed as the Poarch Band of Creek Indians of Alabama); Seminole Tribe of Florida (previously listed as the Seminole Tribe of Florida (Dania, Big Cypress, Brighton, Hollywood & Tampa Reservations)); Shawnee Tribe; The Chickasaw Nation; The Muscogee (Creek) Nation; The Seminole Nation of Oklahoma; Thlopthlocco Tribal Town; and the United Keetoowah Band of Cherokee Indians in Oklahoma, that this notice has been published.

Dated: December 2, 2013.
Melanie O'Brien,
Acting Manager, National NAGPRA Program.

[FR Doc. 2014-00763 Filed 1-15-14; 8:45 am]

BILLING CODE 4312-50-P